FEDERAL COMMUNICATIONS COMMISSION

47 CFR Part 73

[DA 04-3174; MB Docket No. 04-386; RM-10817]

Radio Broadcasting Services; Leesville and New Llano, LA

AGENCY: Federal Communications Commission.

ACTION: Proposed rule; correction.

SUMMARY: This document corrects the reply comment date to a proposed rule published in the Federal Register of October 20, 2004, regarding Radio Broadcasting Services in Leesville and New Llano, Louisiana. The wrong date was stated for the reply comment date. This document corrects the reply comment date to read as December 14, 2004.

FOR FURTHER INFORMATION CONTACT: Rolanda F. Smith, Media Bureau, (202) 418-2180.

Correction

In proposed rule FR Doc. 04-23458, published October 20, 2004 (69 FR 61617) make the following correction.

On page 61617, in the third column, correct the DATES line to read as follows:

DATES: Comments must be filed on or before November 29, 2004, and reply comments on or before December 14, 2004.

Federal Communications Commission.
John A. Karousos,
Assistant Chief, Audio Division, Media Bureau.

[FR Doc. 04-25064 Filed 11-9-04; 8:45 am]

BILLING CODE 6712-01-P